DEPARTMENT OF TRANSPORTATION

Federal Aviation Administration

14 CFR Part 39

[Docket No. FAA-2014-0123; Directorate Identifier 2013-NM-040-AD; Amendment 39-18134; AD 2015-07-06]

RIN 2120-AA64

Airworthiness Directives; Airbus Airplanes

AGENCY: Federal Aviation Administration (FAA), Department of Transportation (DOT).

ACTION: Final rule.

SUMMARY: We are adopting a new airworthiness directive (AD) for certain Airbus Model A300 B4-601, B4-603, B4-620, B4-622, B4-605R, B4-622R, F4-605R, F4-622R, and C4-605R Variant F airplanes; and Model A310-203, -204, -221, -222, -304, -322, -324, and -325 airplanes. This AD was prompted by a report of inner skin disbonding damage on a rudder. This AD requires repetitive ultrasonic inspections for disbonding of certain rudders; an elasticity of laminate checker inspection; a woodpecker or tap test inspection; venting the core, if necessary; and repairing, if necessary. We are issuing this AD to detect and correct rudder disbonding, which could affect the structural integrity of the rudder.

DATES: This AD becomes effective May 14, 2015.

The Director of the Federal Register approved the incorporation by reference of a certain publication listed in this AD as of May 14, 2015.

ADDRESSES: You may examine the AD docket on the Internet at http://www.regulations.gov/#!docketDetail;D=FAA-2014-0123; or in person at the Docket Management Facility, U.S. Department of Transportation, Docket Operations,M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0123.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to certain Airbus Model A300 B4-601, B4-603, B4-620, B4-622, B4-605R, B4-622R, F4-605R, F4-622R, and C4-605R Variant F airplanes; and Model A310-203, -204, -221, -222, -304, -322, -324, and -325 airplanes. The NPRM published in the Federal Register on February 28, 2014 (79 FR 11355).

The European Aviation Safety Agency (EASA), which is the Technical Agent for the Member States of the European Union, has issued EASA Airworthiness Directive 2013-0039, dated February 26, 2013 (referred to after this as the Mandatory Continuing Airworthiness Information, or “the MCAI”), to correct an unsafe condition for certain Airbus Model A300 B4-601, B4-603, B4-620, B4-622, B4-605R, B4-622R, F4-605R, F4-622R, and C4-605R Variant F airplanes; and Model A310-203, -204, -221, -222, -304, -322, -324, and -325 airplanes. The MCAI states:

One A310 operator found substantial inner skin disbonding damage on a rudder that was previously inspected in accordance with the instructions of Airbus Service Bulletin (SB) A310-55-2044. The results of the subsequent investigation revealed that the most probable cause of this damage was a blunt impact with no visible damage from outside during the rudder handling. Damage like this might grow with pressure variation during ground-air-ground cycles, and tests performed with other rudders showed a rapid propagation of damage during artificial pressure cycling.

This condition, if not detected and corrected, could affect the structural integrity of the rudder.

To address this potential unsafe condition, Airbus issued Alert Operators Transmission (AOT) A55W002-12 [dated December 13, 2012], pending Aircraft Maintenance Manual (AMM) 27-21-21 PB401 revision to update rudder handling procedures.

For the reasons described above, this [EASA] AD requires ultrasonic test (UT) inspections of the affected rudders to detect signs of disbonding and, depending on findings, accomplishment of applicable corrective action(s).

Required actions also include an elasticity of laminate checker inspection to detect external and internal disbonding, and a woodpecker or tap test inspection to detect external disbonding. You may examine the MCAI in the AD docket on the Internet at http://www.regulations.gov/#!documentDetail;D=FAA-2014-0123-0002.

Comments

We gave the public the opportunity to participate in developing this AD. The following presents the comments received on the NPRM (79 FR 11355, February 28, 2014) and the FAA's response to each comment.

Requests To Exclude Certain Airplanes From AD Requirements

Airbus requested that we revise paragraph (g) of the NPRM (79 FR 11355, February 28, 2014) to mirror the language in Airbus Alert Operators Transmission (AOT) A55W002-12, dated December 13, 2012, which takes into account whether or not the rudder has been removed and/or installed since the last inspection. Airbus stated that the removal/installation process is linked to the risk of the unseen damage occurring to the rudder. Airbus suggested revised language for a requirement to determine if the rudder has been removed or installed since the last inspection.

In addition, FedEx requested that we revise paragraph (c) or (g) of the NPRM (79 FR 11355, February 28, 2014) to state that, if the installed rudder has been inspected (and not removed) per AD 2008-11-05, Amendment 39-15527 (73 FR 29423, May 21, 2008), since its installation, no further inspection will be required since the unsafe condition would be alleviated.

UPS, FedEx, and Airbus requested that we revise the NPRM (79 FR 11355, February 28, 2014) to eliminate unnecessary AD tracking requirements. UPS noted that the identified risk only exists in cases where the rudder has been changed since inspection under AD 2008-11-05, Amendment 39-15527 (73 FR 29423, May 21, 2008). UPS further stated that the NPRM does not refer to AD 2008-11-05, even though the repetitive ultrasonic inspections to detect disbonding in the NPRM are identical to the requirements of paragraph (f)(2) of AD 2008-11-05. Also, UPS stated that the airplane maintenance manual (AMM) has been updated as of June 1, 2013, to include the same ultrasonic inspection specified in both AD 2008-11-05 and the NPRM. UPS suggested revised wording for the NPRM.

We concur with the requests to limit the airplanes subject to the requirements of paragraph (g) of this AD. This AD does relate to AD 2008-11-05 (73 FR 29423, dated May 21, 2008), in that the ultrasonic inspections are required in both ADs. This AD requires the ultrasonic inspections for only certain airplanes. Therefore, we have added a new paragraph (h)(2) in this AD. Paragraph (h)(2) of this AD specifies that, for airplanes on which it can be conclusively determined that the most recent inspection specified in Airbus Service Bulletin A310-55-2044 or Airbus Service Bulletin A300-55-6043 was done on the airplane; or the rudder was not removed for any reason since doing the most recent inspection specified in Airbus Service Bulletin A310-55-2044 or Airbus Service Bulletin A300-55-6043; no further action is necessary, except as specified in paragraphs (j) and (k) of this AD.

We have also re-designated paragraphs (h), (h)(1), and (h)(2) of the NPRM as paragraphs (h)(1), (h)(1)(i), and (h)(1)(ii) of this AD, respectively.

Request To Remove Requirement To Refer to This AD in Repair Approvals

UPS requested that we revise the NPRM (79 FR 11355, February 28, 2014) to remove the requirement to include the AD reference in repair approvals. UPS noted its concerns that the NPRM will increase requests for approval of alternative methods of compliance (AMOCs) and result in delays to other services and actions addressed by the FAA on a daily basis.

We concur with the commenter's request to remove from this AD the requirement that repair approvals must specifically refer to this AD. Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 11355, February 28, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include “the Design Approval Holder (DAH) with a State of Design Authority's design organization approval (DOA)” to refer to a DAH authorized to approve required repairs for the AD.

In its comments to the NPRM (79 FR 11355, February 28, 2014), UPS stated the following: “The proposed wording, being specific to repairs, eliminates the interpretation that Airbus messages or other approved EASA documents are acceptable for approving minor deviations (corrective actions) needed during accomplishment of a[n AD] mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility afforded previously by the Airworthy Product paragraph. Consistent with long-standing FAA policy, such flexibility was never intended for required actions. This is also consistent with the recommendation of the AD Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to another NPRM having Directorate Identifier 2012-NM-101-AD (78 FR 78285, December 26, 2013) pointed out that in many cases the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement from this AD that the DAH-provided repair specifically refer to this AD. Before adopting such a requirement in the future, the FAA will coordinate with affected DAHs and verify they are prepared to implement means to ensure that their repair approvals consider the unsafe condition addressed in an AD. Any such requirements will be adopted through the normal AD rulemaking process, including notice-and-comment procedures, when appropriate.

We have also decided not to include a generic reference to either the “delegated agent” or the “DAH with State of Design Authority design organization approval,” but instead we will provide the specific delegation approval granted by the State of Design Authority for the DAH.

Compliance Time Clarification

In paragraph (g) of this AD, for airplanes on which the part number or serial number cannot be determined, we have revised the compliance time of “before further flight” to “within 3 months after the effective date of this AD.” This clarification corresponds to the compliance time in the MCAI. We have determined that extending the compliance time will provide an acceptable level of safety.

Conclusion

We reviewed the relevant data, considered the comments received, and determined that air safety and the public interest require adopting this AD with the changes described previously and minor editorial changes. We have determined that these minor changes:

• Are consistent with the intent that was proposed in the NPRM (79 FR 11355, February 28, 2014) for correcting the unsafe condition; and

• Do not add any additional burden upon the public than was already proposed in the NPRM (79 FR 11355, February 28, 2014).

We also determined that these changes will not increase the economic burden on any operator or increase the scope of this AD.

Related Service Information Under 1 CFR Part 51

Airbus has issued AOT A55W002-12, dated December 13, 2012, including Inspection Flowchart. The service information describes, among other actions, procedures for an ultrasonic inspection along the Z-profile of the rudder side panel. This service information is reasonably available; see ADDRESSES for ways to access this service information.

Costs of Compliance

We estimate that this AD affects 89 airplanes of U.S. registry. We also estimate that it would take about 10 work-hours per product to comply with the basic requirements of this AD. The average labor rate is $85 per work-hour. Required parts would cost about $0 per product. Based on these figures, we estimate the cost of this AD on U.S. operators to be $75,650, or $850 per product.

We have received no definitive data that would enable us to provide a cost estimate for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0123; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-07-06 Airbus: Amendment 39-18134. Docket No. FAA-2014-0123; Directorate Identifier 2013-NM-040-AD.

(a) Effective Date

This AD becomes effective May 14, 2015.

(b) Affected ADs

None.

(c) Applicability

This AD applies to the airplanes identified in paragraphs (c)(1) and (c)(2) of this AD, except airplanes on which modification 08827 has been embodied in production.

(1) Airbus Model A300 B4-601, B4-603, B4-620, B4-622, B4-605R, B4-622R, F4-605R, F4-622R, and C4-605R Variant F airplanes, certificated in any category, all manufacturer serial numbers.

(2) Airbus Model A310-203, -204, -221, -222, -304, -322, -324, and -325 airplanes, certificated in any category, all manufacturer serial numbers.

(d) Subject

Air Transport Association (ATA) of America Code 55; Stabilizers.

(e) Reason

This AD was prompted by a report of inner skin disbonding damage on a rudder. We are issuing this AD to detect and correct rudder disbonding, which could affect the structural integrity of the rudder.

(f) Compliance

Comply with this AD within the compliance times specified, unless already done.

(g) Identification of Part Number

Within 3 months after the effective date of this AD, identify the rudder assembly part number (P/N) and serial number (S/N), in accordance with Airbus Alert Operators Transmission (AOT) A55W002-12, dated December 13, 2012, including Inspection Flowchart. If the part number or serial number cannot be determined, within 3 months after the effective date of this AD, identify the part number and serial number, in accordance with a method approved by either the Manager, International Branch, ANM-116, Transport Airplane Directorate, FAA; or the European Aviation Safety Agency (EASA); or Airbus's EASA Design Organization Approval (DOA).

(h) Inspections

(1) Except as provided by paragraph (h)(2) of this AD, if a rudder assembly part number starting with A55471500 is found during the inspection required by paragraph (g) of this AD, before further flight, do an ultrasonic (UT) inspection for damage (e.g., disbonding and liquid ingress) of the rudder side panel along the Z-profile and in the booster area, in accordance with Airbus AOT A55W002-12, dated December 13, 2012, including Inspection Flowchart. If any damage is found, before further flight, do the inspections to confirm disbonding damage, as specified in paragraphs (h)(1)(i) and (h)(1)(ii) of this AD, in accordance with Airbus AOT A55W002-12, dated December 13, 2012.

(i) Do an elasticity of laminate checker inspection to detect external and internal disbonding of the rudder side panel along the Z-profile and in the booster area.

(ii) Do a woodpecker or tap test inspection to detect external disbonding of the rudder side panel along the Z-profile and in the booster area.

(2) For airplanes on which it can be conclusively determined that the most recent inspection specified in Airbus Service Bulletin A310-55-2044 or Airbus Service Bulletin A300-55-6043 was done on the airplane; or the rudder was not removed for any reason since doing the most recent inspection specified in Airbus Service Bulletin A310-55-2044 or Airbus Service Bulletin A300-55-6043: No further action is required by this AD, except as specified in paragraphs (j) and (k) of this AD.

(i) Repair

(1) If any disbonding is confirmed during any inspection required by paragraphs (h)(1)(i) and (h)(1)(ii) of this AD, before further flight, repair as specified in paragraphs (i)(1)(i) and (i)(1)(ii) of this AD, as applicable.

(i) If disbonding is less than or equal to 50 millimeters (mm) in width and less than or equal to 150 mm in length, before further flight, vent the core, using a method approved by either the Manager, International Branch, ANM-116, Transport Airplane Directorate, FAA; or EASA; or Airbus's EASA DOA. Within 100 flight cycles after the UT inspection specified in paragraph (h) of this AD is done, repair using a method approved by the Manager, International Branch, ANM-116, Transport Airplane Directorate, FAA; or EASA; or Airbus's EASA DOA.

(ii) If disbonding is greater than 50 mm in width or greater than 150 mm in length, before further flight, repair using a method approved by the Manager, International Branch, ANM-116, Transport Airplane Directorate, FAA; or EASA; or Airbus's EASA DOA.

(2) If liquid ingress is confirmed during any inspection required by paragraphs (h)(1)(i) and (h)(1)(ii) of this AD, before further flight, repair using a method approved by the Manager, International Branch, ANM-116, Transport Airplane Directorate, FAA; or EASA; or Airbus's EASA DOA.

(j) Inspection after Re-Installation

If any rudder has been inspected as specified in Airbus Service Bulletin A300-55-6043, Revision 01, dated December 3, 2007; or A310-55-2044, Revision 01, dated December 3, 2007; as applicable; and has been removed and re-installed on any airplane after this inspection, that rudder must be re-inspected as required by paragraph (g) of this AD; and all applicable actions required by paragraphs (h) and (i) of this AD must be done.

(k) Parts Installation Limitation

As of the effective date of this AD, no person may install, on any airplane, a rudder assembly having a part number starting with A55471500, unless it has been inspected as required by paragraph (h) of this AD, and all applicable actions required by paragraph (i) of this AD have been done.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(m) Related Information

Refer to Mandatory Continuing Airworthiness Information (MCAI) EASA Airworthiness Directive 2013-0039, dated February 26, 2013, for related information. This MCAI may be found in the AD docket on the Internet at http://www.regulations.gov/#!documentDetail;D=FAA-2014-0123-0002.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission (AOT) A55W002-12, dated December 13, 2012, including Inspection Flowchart. The inspection flowchart attached to this AOT is referred to in the AOT as “Appendix 1”; however, the flowchart page does not identify itself as an appendix. While the inspection flowchart page does specify the AOT document number, it does not specify a revision level or an issue date.

(ii) Reserved.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 27, 2015.
Michael Kaszycki,
Acting Manager, Transport Airplane Directorate, Aircraft Certification Service.

[FR Doc. 2015-07799 Filed 4-8-15; 08:45 am]

BILLING CODE 4910-13-P